DEPARTMENT OF COMMERCE

National Oceanic and Atmospheric Administration

RIN 0648-XG203

Atlantic Coastal Fisheries Cooperative Management Act Provisions; General Provisions for Domestic Fisheries; Application for Exempted Fishing Permits

AGENCY: National Marine Fisheries Service (NMFS), National Oceanic and Atmospheric Administration (NOAA), Commerce.

ACTION: Notice; request for comments.

SUMMARY: The Acting Assistant Regional Administrator for Sustainable Fisheries, Greater Atlantic Region, NMFS, has made a preliminary determination that an Exempted Fishing Permit Application from the Atlantic Offshore Lobsterman's Association and Maine Department of Marine Resources contains all the required information and warrants further consideration. Regulations under the Magnuson-Stevens Fishery Conservation and Management Act and the Atlantic Coastal Fisheries Cooperative Management Act require publication of this notice to provide interested parties the opportunity to comment on applications for proposed Exempted Fishing Permits.

DATES: Comments must be received on or before May 18, 2018.

ADDRESSES: You may submit written comments by any of the following methods:

• Email: NMFS.GAR.EFP@noaa.gov. Include in the subject line “Comments on AOLA Lobster EFP.”

• Mail: Michael Pentony, Regional Administrator, NMFS, Greater Atlantic Regional Fisheries Office, 55 Great Republic Drive, Gloucester, MA 01930. Mark the outside of the envelope “Comments on AOLA Lobster EFP.”

FOR FURTHER INFORMATION CONTACT: Laura Hansen, NOAA Affiliate, (978) 281-9225.

SUPPLEMENTARY INFORMATION: The Atlantic Offshore Lobstermen's Association (AOLA) and Maine Department of Marine Resources (ME DMR) submitted a complete application for an Exempted Fishing Permit (EFP) on April 10, 2018, to conduct fishing activities that the regulations would otherwise restrict. The EFP would authorize one commercial fishing vessel to conduct a lobster tagging study using experimental traps to track movements and migrations of American lobster in the Gulf of Maine/Georges Bank stock. This EFP proposes to use 300 experimental traps in Lobster Conservation Management Area (LCMA) 3 in statistical area 515. Maps depicting this area is available on request.

AOLA and ME DMR are requesting exemptions from the following Federal lobster regulations:

1. Gear specification requirements to allow for the use of traps with escape vents compliant with LCMA 1, but not LCMA 3 (50 CFR 697.21(c)(4));

2. Trap limit requirements to allow for trap limits to be exceeded (§ 697.19(a) for LCMA 1);

3. Trap tag requirements to allow for alternatively-tagged traps (§ 697.19(i)); and

4. LCMA designation requirements to allow fishing with experimental traps in LCMA 3 without an LCMA 3 designation on a Federal permit (§ 697.4(a)(7)(i)).

The purpose of this lobster study is to track migration in the Gulf of Maine/Georges Bank stock area, estimate growth rates via imaging technology and direct measurements, and characterize catch-per-unit-effort and spatial distribution of egg-bearing females. This study will expand on data collected in 2015 from a New Hampshire Fish and Game and ALOA's fishery dependent lobster survey, which gathered some information on the spatial and temporal distribution of mature lobsters in the Gulf of Maine/Georges Bank area.

Trawls will be compliant with the Atlantic Large Whale Take Reduction Plan and consistent with LCMA 1 trap standards. Sampling will occur from June to July. Trawls will be hauled no more than 8 times over the 40-day study period. Researchers have selected four primary research sites and one alternate site. Trawls will be initially deployed by the vessel's crew alone, but all hauling activities will be supervised by ME DMR staff. All lobsters caught will be measured, tagged, and returned to the water. All other species will be immediately returned to the sea. No catch from the study will be landed for sale.

If approved, the applicant may request minor modifications and extensions to the EFP throughout the year. We may grant EFP modifications and extensions may be granted without further notice if they are deemed essential to facilitate completion of the proposed research and have minimal impacts that do not change the scope or impact of the initially approved EFP request. The EFP would prohibit any fishing activity conducted outside the scope of the exempted fishing activities.

Authority: 16 U.S.C. 1801 et seq.

Dated: April 30, 2018.
Alan D. Risenhoover,
Director, Office of Sustainable Fisheries, National Marine Fisheries Service.

[FR Doc. 2018-09385 Filed 5-2-18; 8:45 am]

BILLING CODE 3510-22-P